DEPARTMENT OF JUSTICE

Drug Enforcement Administration

[OMB Number 1117-0014]

Agency Information Collection Activities: Proposed Collection; Comments Requested

ACTION: 30-Day Notice of Information Collection Under Review: Application for Registration (DEA Form 224); Application for Registration Renewal (DEA Form 224a); Affidavit for Chain Renewal (DEA Form 224B).

The Department of Justice (DOJ), Drug Enforcement Administration (DEA) will be submitting the following information collection request to the Office of Management and Budget (OMB) for review and approval in accordance with the Paperwork Reduction Act of 1995. The proposed information collection is published to obtain comments from the public and affected agencies. This proposed information collection was previously published in the Federal Register at 73 FR 53279 on September 15, 2008, allowing for a 60 day comment period.

The purpose of this notice is to allow for an additional 30 days for public comment until December 22, 2008. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806.

Written comments and suggestions from the public and affected agencies concerning the proposed collection of information are encouraged. Your comments should address one or more of the following four points:

• Evaluate whether the proposed collection of information is necessary for the proper performance of the functions of the agency, including whether the information will have practical utility;

• Evaluate the accuracy of the agencies estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of Information Collection 1117-0014:

(1) Type of Information Collection: Extension of a currently approved collection.

(2) Title of the Form/Collection:

Application for Registration (DEA Form 224);

Application for Registration Renewal (DEA Form 224a);

Affidavit for Chain Renewal (DEA Form 224B).

(3) Agency form number, if any, and the applicable component of the Department of Justice sponsoring the collection:

Form Number: DEA Form 224, 224a and 224B;

Office of Diversion Control, Drug Enforcement Administration, Department of Justice.

(4) Affected public who will be asked or required to respond, as well as a brief abstract:

Primary: Business or other for-profit.

Other: Not-for-Profit Institutions; State, Local or Tribal Government.

Abstract: All firms and individuals who distribute or dispense controlled substances must register with the DEA under the Controlled Substances Act. Registration is needed for control measures over legal handlers of controlled substances and is used to monitor their activities.

(5) An estimate of the total number of respondents and the amount of time estimated for an average respondent to respond: It is estimated that 12,094 persons complete DEA Form 224 on paper, at 12 minutes per form, for an annual burden of 2,418.8 hours. It is estimated that 59,283 persons complete DEA Form 224 electronically, at 8 minutes per form, for an annual burden of 7,904.4 hours. It is estimated that 159,678 persons complete DEA Form 224a on paper, at 12 minutes per form, for an annual burden of 31,935.6 hours. It is estimated that 209,535 persons complete DEA Form 224a electronically, at 4 minutes per form, for an annual burden of 13,969 hours. It is estimated that 16 persons complete DEA Form 224b, at 5 hours per form, for an annual burden of 80 hours.

(6) An estimate of the total public burden (in hours) associated with the collection: It is estimated that this collection will create a burden of 56,307.8 annual burden hours.

If additional information is required contact: Lynn Bryant, Department Clearance Officer, United States Department of Justice, Justice Management Division, Policy and Planning Staff, Patrick Henry Building, Suite 1600, 601 D Street, NW., Washington, DC 20530.

Dated: November 14, 2008.
Lynn Bryant,
Department Clearance Officer, PRA, U.S. Department of Justice.

[FR Doc. E8-27640 Filed 11-19-08; 8:45 am]

BILLING CODE 4410-09-P